DEPARTMENT OF ENERGY

Federal Energy Regulatory Commission

[Project No. 4684-070]

GR Catalyst One, LLC; Notice of Intent To File License Application, Filing of Pre-Application Document, and Approving Use of the Traditional Licensing Process

a. Type of Application: Notice of Intent to File License Application and Request to Use the Traditional Licensing Process (TLP).

b. Project No.: 4684-070.

c. Date filed: May 2, 2022.

d. Submitted by: GR Catalyst One, LLC (GRCO).¹

¹ GR Catalyst One, LLC is a subsidiary of Gravity Renewables, Inc.

e. Name of Project: Stillwater Hydroelectric Project.

f. Location: Located at the New York State Canal Corporation's Stillwater dam, on Champlain Canal at Lock C-4, on the Hudson River in Saratoga County, in the town Stillwater, New York. The project does not occupy any federal land.

g. Filed Pursuant to: 18 CFR 5.3 of the Commission's regulations.

h. Potential Applicant Contact: Celeste Fay, Director of Regulatory Affairs, 5 Dartmouth Avenue, Suite 104, Auburn, NH 03032. Phone: (413) 262-9466, Email: celeste@gravityrenewables.com.

i. FERC Contact: Samantha Pollak, Phone: (202) 502-6419, Email: samantha.pollak@ferc.gov.

j. GRCO filed its request to use the TLP on May 2, 2022 and provided public notice of its request on the same day. In a letter dated July 1, 2022, the Director of the Division of Hydropower Licensing approved GRCO's request to use the TLP.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating GRCO as the Commission's non-federal representative for carrying out informal consultation pursuant to section 7 of the Endangered Species Act and consultation pursuant to section 106 of the National Historic Preservation Act.

m. GRCO filed a Pre-Application Document (PAD), including a proposed process plan and schedule, with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a new license for Project No. 4684. Pursuant to 18 CFR 16.20 each application for a subsequent license and any competing license applications must be filed with the Commission at least 24 months prior to the expiration of the existing license. All applications for license for this project must be filed by May 31, 2025.

p. Register online at http://www.ferc.gov/docs-filing/esubscription.asp to be notified via email of new filing and issuances related to this or other pending projects. For assistance, contact FERC Online Support.

Dated: June 30, 2022.
Debbie-Anne A. Reese,
Deputy Secretary.

[FR Doc. 2022-14456 Filed 7-6-22; 8:45 am]

BILLING CODE 6717-01-P